Executive Order 14049 of October 11, 2021

White House Initiative on Advancing Educational Equity, Excellence, and Economic Opportunity for Native Americans and Strengthening Tribal Colleges and Universities

By the authority vested in me as President by the Constitution and the laws of the United States of America, it is hereby ordered as follows:

Section 1. Policy. The United States has a unique political and legal relationship with federally recognized Tribal Nations, as set forth in the Constitution of the United States, statutes, treaties, Executive Orders, and court decisions. The Federal Government is committed to protecting the rights and ensuring the well-being of Tribal Nations while respecting Tribal sovereignty and inherent rights of self-determination. In recognition of that commitment and to fulfill the solemn obligations it entails, executive departments and agencies (agencies) must help advance educational equity, excellence, and economic opportunity for Native American students, whether they attend public schools in urban, suburban, or rural communities; are homeschooled; attend primary and secondary schools operated or funded by the Bureau of Indian Education (BIE) of the Department of the Interior; or attend postsecondary educational institutions, including Tribal Colleges and Universities (TCUs).

For more than a century, the United States imposed educational policies designed to assimilate Native peoples into predominant United States culture that devastated Native American students and their families. Beginning with the Indian Civilization Act of 1819, the United States enacted laws and implemented policies establishing and supporting Indian boarding schools across the Nation. From 1871 onward, federally run Indian boarding schools were used to culturally assimilate Native American children who were forcibly removed from their families and communities and relocated to distant residential facilities where their Native identities, languages, traditions, and beliefs were forcibly suppressed. The conditions in these schools were usually harsh, and sometimes abusive and deadly. Although these policies have ended, their effects and resulting trauma reverberate in Native American communities even today, creating specific challenges that merit Federal attention and response.

During the global COVID-19 pandemic, Tribal Nations raced to protect Tribal members and their way of life. Tribal elders are often the keepers of Tribal culture and are critical for the preservation of Native languages, as the vitality of Native culture is inseparably tied to Native languages. Accordingly, my Administration is committed to supporting preservation and revitalization of Native languages. This includes honoring the vibrancy, importance, and strength of Native languages and the traditions, values, and cultural practices that accompany them.

In addition, the COVID-19 pandemic has amplified long-standing educational inequities that disproportionally affect Native American communities and burden Native American students. In particular, Native American children face significant learning disruption as the digital divide and lack of educational resources put remote learning out of reach for too many. Native American students experienced the greatest decline in undergraduate enrollment in higher education from 2020 to 2021 compared to other student groups. These inequities compound the effects of other disparities faced by Native American women and girls in particular. The spike in gender-based violence during the COVID-19 pandemic has intensified safety concerns for Native American women and girls, who were already victimized at higher rates than other women in the United States.

The Federal Government must put strong focus on early childhood and K-12 educational opportunities. These are important to developing and strengthening Native American communities, and they set the stage for educational advancement and career development, including opportunities to attend TCUs.

TCUs also merit focused attention, as these institutions are integral and essential to Tribal communities. Their foundation, tradition, and mission are unique, and their cultural grounding is invaluable to providing high-quality education and successful outcomes for Native American students. TCUs fulfill a vital role in maintaining and preserving irreplaceable Native languages and cultural traditions; in promoting excellence in Native American education from early childhood through primary and secondary education, into postsecondary education, and throughout graduates' careers; in offering an entry point for a career in academia, strong technical and trade school opportunities, job training, and other career-building programs to Native Americans; and in supporting Tribal economic development efforts by building and strengthening a highly skilled Native American workforce. Often, they are the only postsecondary institutions within some of our Nation's most economically disadvantaged and rural areas. As a result, TCUs provide crucial employment opportunities and services in communities that continue to suffer high rates of unemployment and resulting social and economic distress. The Federal Government therefore reaffirms and strengthens our commitment to Native American communities by investing in TCUs to support their continued growth and success.

It is the policy of my Administration to advance equity, excellence, and justice in our Nation's education system and to further Tribal self-governance, including by supporting activities that expand educational opportunities and improve educational outcomes for all Native American students. My Administration will help expand opportunities for Native American students to learn their Native languages, histories, and cultural practices; promote indigenous learning through the use of traditional ecological knowledge; and enhance access to complete and competitive educations that prepare Native American students for college, careers, and productive and satisfying lives. This includes supporting educational opportunities for students attending TCUs, given the unique advantages those institutions provide. My Administration is further committed to ensuring all Native American students have the ability to pursue careers that provide economic security for themselves and their families, including Native American women, who currently, on average, earn just 60 cents to every dollar earned by White men. To these ends, my Administration will collaborate with Tribal Nations to collect better data on educational attainment gaps faced by Native American students to help deepen understanding of these gaps, including barriers to workforce participation, and inform solutions.

Sec. 2. White House Initiative on Advancing Educational Equity, Excellence, and Economic Opportunity for Native Americans and Strengthening Tribal Colleges and Universities. (a) To advance equity in our Nation's schools, to promote the economic opportunity that follows it, and to fulfill our commitment to furthering Tribal sovereignty, there is established in the Department of Education the White House Initiative on Advancing Educational Equity, Excellence, and Economic Opportunity for Native Americans and Strengthening Tribal Colleges and Universities (Initiative), of which the Secretary of Education, the Secretary of the Interior, and the Secretary of Labor shall serve as Co-Chairs. The Secretary of Education shall, in consultation with the other Co-Chairs of the Initiative, designate an Executive Director for the Initiative (Executive Director). The Executive Director shall co-chair the Education Committee of the White House Council on Native American Affairs (WHCNAA), established by Executive Order 13647 of June 26, 2013 (Establishing the White House Council on Native American Affairs).

(b) The Initiative shall consult and collaborate with Tribal Nations; Alaska Native Entities; TCUs; and State, Tribal, and local educational departments and agencies to advance educational equity, excellence, and economic opportunity for Native Americans by focusing on the following policy goals:

(i) increasing the understanding of systemic causes of educational challenges faced by Native American students and working across agencies to address those challenges;

(ii) supporting and improving data collection related to Native American students and the implementation of evidence-based strategies to increase the participation and success of Native American students in all levels of education and prepare them for careers and civic engagement;

(iii) increasing the percentage of Native American children and families who participate in high-quality early childhood programs and services that promote healthy development and learning, prepare Native American children for success in school, and affirm the cultural and linguistic identity of Native American children;

(iv) ensuring that all Native American students have access to excellent teachers, school leaders, and other professionals, including by supporting efforts to improve the recruitment, preparation, development, and retention of qualified, diverse teachers, school leaders, and other professionals who understand Native American students' lived experiences and can effectively meet their students' academic, social, and emotional needs, particularly in partnership with TCUs;

(v) breaking down barriers that impede the access of higher education institutions that serve Native American students, such as TCUs, to Federal funding, and strengthening the capacity of those institutions to participate in Federal programs and partnerships;

(vi) ensuring that the unique indigenous, cultural, educational, traditional ecological knowledge, and Native language needs of Native American students are met;

(vii) exploring policies to expand and support career and technical education, job training, and other career-building programs for Native American students and workers; and

(viii) furthering Tribal sovereignty by supporting efforts to build the capacity of Tribal educational agencies and TCUs to provide high-quality education services to Native American students.

(c) In working to fulfill its mission and objectives, the Initiative shall, consistent with applicable law:

(i) engage in regular, meaningful, and robust consultation with Tribal Nations regarding Native American education and related issues, in accordance with the Presidential Memorandum of January 26, 2021 (Tribal Consultation and Strengthening Nation-to-Nation Relationships);

(ii) identify and promote evidence-based best practices that can provide Native American students with a rigorous and well-rounded education in safe and healthy environments, as well as access to support services, that will improve their educational, professional, economic, and civic opportunities;

(iii) advance and coordinate efforts to ensure equitable opportunities for Native American students in the wake of the COVID-19 pandemic, including recovering learning losses and addressing other challenges—academic, financial, social, emotional, mental health, or career development—brought on or exacerbated by the COVID-19 pandemic;

(iv) encourage and develop Federal partnerships with public, private, philanthropic, and nonprofit entities to improve access to educational equity, excellence, and economic opportunity for Native Americans;

(v) monitor and support the development, implementation, and coordination of Federal Government educational, workforce, research, and business development policies, programs, and technical assistance designed to improve outcomes for Native Americans;

(vi) create opportunities for strategic partnerships among agencies and work closely with the Executive Office of the President on key Administration priorities related to Native Americans;

(vii) serve as a liaison with other agencies on Native American issues, advise those agencies on how they might help to promote Native American educational opportunities, and track their success in doing so; and

(viii) advise the Co-Chairs of the Initiative on issues of importance and policies relating to educational equity, excellence, and economic opportunity for Native American students.

(d) To facilitate partnership among agencies to advance educational equity, excellence, and economic opportunity for Native American students, the Executive Director shall work with the Director of the BIE, the Commissioner of the Administration for Native Americans (ANA) of the Department of Health and Human Services, and the Director of the Indian Health Service (IHS) of the Department of Health and Human Services to develop a separate Memorandum of Agreement (MOA) between the Initiative and each of these entities that will take advantage of each agency's expertise, resources, and facilities. Each MOA shall be completed within 180 days of the date of this order, and each shall address how the BIE, ANA, and IHS, respectively, will collaborate with the Initiative in carrying out the policy set forth in section 1 of this order, as appropriate and consistent with applicable law.

(e) Each agency with representation on the WHCNAA Education Committee shall prepare a plan (Agency Plan) outlining measurable actions the agency will take to advance educational equity, excellence, and economic opportunity for Native American communities, including the agency's plans to implement the policy goals and directives outlined in subsection (b) of this section, and other relevant work, in consultation with the Executive Director. These Agency Plans shall be submitted to the Co-Chairs of the Initiative on a date the Co-Chairs shall establish.

(i) Each agency with representation on the WHCNAA Education Committee shall assess and report to the Co-Chairs of the Initiative on a regular basis, as established by the Co-Chairs of the Initiative, regarding its progress in implementing its Agency Plan.

(ii) The Initiative shall monitor and evaluate each agency's progress towards the goals established in its Agency Plan and shall coordinate with the agency to ensure that its Agency Plan includes measurable and action-oriented goals.

(f) The Department of Education shall provide funding and administrative support for the Initiative, to the extent permitted by law and subject to the availability of appropriations.

(g) To further shared priorities and policies that advance educational equity, excellence, and economic opportunity for underserved communities, the Initiative shall collaborate and coordinate with other White House initiatives related to educational equity, excellence, and economic opportunity.

(h) The Initiative shall collaborate, as appropriate and consistent with applicable law, with other organizations and entities, including: Urban Indian Organizations; governing bodies of Tribal Nations on Federal and State reservations; State-recognized Tribes; Native Hawaiian and Native American Pacific Islander organizations; and other Native American groups that seek to advance educational equity, excellence, and economic opportunity for Native American students, families, and communities in the United States.

(i) No later than 1 year after the date of this order and annually thereafter, the Co-Chairs of the Initiative shall report to the President on the Initiative's progress in carrying out its mission and objectives under this order.

Sec. 3. National Advisory Council. The Department of Education's National Advisory Council on Indian Education (NACIE), comprised of members appointed by the President under section 6141 of the Elementary and Secondary Education Act of 1965 (ESEA), 20 U.S.C. 7471, shall serve as the advisory council for the Initiative and shall report to the Initiative, through and as requested by the Executive Director. To the extent appropriate and consistent with applicable law, the NACIE shall include members from across the education spectrum, including members who can provide specific expertise on issues concerning TCUs and other Native American-serving institutions, K-12 and early childhood education, special education, and vocational education.

(a) In addition to and consistent with the duties set forth in section 6141(b)(1) of the ESEA, the NACIE shall, in consultation with the Initiative, advise the Co-Chairs of the Initiative on:

(i) what is needed for the development, implementation, and coordination of educational programs and initiatives to improve educational opportunities and outcomes for Native Americans;

(ii) how to promote career pathways for in-demand jobs for Native American students, including registered apprenticeships as well as internships, fellowships, mentorships, and work-based learning initiatives;

(iii) ways to strengthen TCUs and increase their participation in agency programs;

(iv) how to increase public awareness of and generate solutions for the educational and training challenges and equity disparities that Native American students face and the causes of these challenges and disparities;

(v) approaches to establish local and national partnerships with public, private, philanthropic, and nonprofit stakeholders to advance the policy set forth in section 1 of this order, consistent with applicable law; and

(vi) actions for promoting, improving, and expanding educational opportunities for Native languages, traditions, and practices to be sustained through culturally responsive education.

(b) The NACIE and the Executive Director shall, as appropriate and consistent with applicable law, facilitate frequent collaborations between the Initiative and Tribal Nations, Alaska Native Entities, and other Tribal organizations.

(c) The Executive Director shall, in consultation with the NACIE, address the NACIE's efforts pursuant to subsection (a) of this section in the annual report of the Initiative submitted to the President.

(d) The Department of Education shall provide staff support for the NACIE.

Sec. 4. Administrative Provisions. (a) In carrying out this order, the Secretary of the Interior, the Secretary of Labor, and the Secretary of Education shall study, collect information, and publish reports on the education of Native American students.

(b) This order supersedes Executive Order 13592 of December 2, 2011 (Improving American Indian and Alaska Native Educational Opportunities and Strengthening Tribal Colleges and Universities), which is revoked. To the extent that there are other Executive Orders that may conflict with or overlap with the provisions in this order, the provisions in this order shall supersede those other Executive Orders on these subjects.

(c) The heads of agencies shall assist and provide information to the Initiative, consistent with applicable law, as may be necessary to carry out the functions of the Initiative.

(d) Each agency shall bear its own expenses of participating in the Initiative.

Sec. 5. Definitions. For the purposes of this order:

(a) “Tribal Nation” means an American Indian or Alaska Native tribe, band, nation, pueblo, village, or community that the Secretary of the Interior acknowledges as a federally recognized tribe pursuant to the Federally Recognized Indian Tribe List Act of 1994, 25 U.S.C. 5130, 5131.

(b) “Alaska Native Entities” includes “Alaska Native Corporations,” which refer to village and regional Alaska Native corporations organized in accordance with the Alaska Native Claims Settlement Act (ANCSA), as amended, 43 U.S.C. 1601, et seq., and the 12 regional nonprofit associations identified under section 7 of ANCSA, 43 U.S.C. 1606, that provide many social services for Alaska Natives, including those related to education.

(c) “Native American” and “Native” mean members of one or more Tribal Nations.

(d) “Public school” means a Head Start center or a prekindergarten, elementary, or secondary school that is predominantly funded through the Federal Government, a State, a local educational agency, a Tribal Nation government, or an Alaska Native Entity, including a school operated directly by, through a contract with, or a grant from the BIE, a Tribal Nation, or a State, county, or local government.

(e) “Tribal Colleges and Universities” means those institutions that are chartered under the sovereign authority of their respective Tribal Nation or by the Federal Government and that: qualify for funding under the Tribally Controlled Colleges and Universities Assistance Act of 1978, 25 U.S.C. 1801, et seq., or the Navajo Community College Assistance Act of 1978, 25 U.S.C. 640a note; or are listed in section 532 of the Equity in Educational Land-Grant Status Act of 1994, 7 U.S.C. 301 note.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 11, 2021.

[FR Doc. 2021-22588

Filed 10-13-21; 11:15 am]

Billing code 3395-F2-P